DEPARTMENT OF HEALTH AND HUMAN SERVICES

Centers for Medicare and Medicaid Services

[Document Identifier: CMS-10134 and CMS-10138]

Emergency Clearance: Public Information Collection Requirements Submitted to the Office of Management and Budget (OMB)

AGENCY: Centers for Medicare and Medicaid Services.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collections referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration and is required in order to meet the demands of new legislation. We cannot reasonably comply with the normal clearance procedures because of statutory deadlines.

The Benefits Improvement & Protection Act of 2000 mandated the Physician Group Practice (PGP) Demonstration and gave the Secretary discretion to use quality measures to assess physician performance in order to reward them for improvements in the quality and efficiency of health care.

The Medicare Care Management Performance (MCMP) Demonstration was authorized by Section 649 of the Medicare Prescription Drug, Improvement, and Modernization Act of 2003 (MMA). The project requires the Secretary to establish a pay-for-performance 3-year pilot with physicians to promote the adoption and use of health information technology to improve the quality of patient care for chronically ill Medicare patients. The mandate specifies that rewards shall be based on the electronic reporting of clinical quality and outcomes measures in accordance with requirements established by the Secretary under the demonstration program.

CMS is requesting OMB review and approval of this collection by April 1, 2005, with a 180-day approval period. Written comments and recommendation will be considered from the public if received by the individuals designated below by March 18, 2005.

1. Type of Information Collection Request: New collection; Title of Information Collection: Physician Group Practice (PGP) Standardized Ambulatory Care Quality Measure Collection Initiative; Use: The Benefits Improvement & Protection Act of 2000 mandated the Physician Group Practice (PGP) Demonstration and gave the Secretary discretion to use quality measures to assess physician performance in order to reward them for improvements in the quality and efficiency of health care. This demonstration is intended to strengthen the Medicare program by offering innovative models to people on Medicare that improve quality and access and lower costs. As a result, people on Medicare will directly benefit from these innovative models.; Form Number: CMS-10134 (OMB#: 0938-NEW); Frequency: Annually; Affected Public: Business or other for-profit and Not-for-profit institutions; Number of Respondents: 10; Total Annual Responses: 10; Total Annual Hours: 790.

2. Type of Information Collection Request: New collection; Title of Information Collection: Medicare Care Management Performance (MCMP) Demonstration—Standardized Ambulatory Care Quality Collection Initiative; Use: The MCMP Demonstration was authorized by Section 649 of the Medicare Prescription Drug, Improvement, and Modernization Act of 2003 (MMA). This project requires the Secretary to establish a pay-for-performance 3-year pilot with physicians to promote the adoption and use of health information technology to improve the quality of patient care for chronically ill Medicare patients. This demonstration represents the first pay for performance project fostering the adoption of health information technology in small physician group practices and will enable a test of the concept to improve the quality and efficiency of care in Fee-for-Service (FFS) Medicare.; Form Number: CMS-10138 (OMB# 0938-NEW); Frequency: Annually; Affected Public: Business or other for-profit and Not-for-profit institutions; Number of Respondents: 800; Total Annual Responses: 800; Total Annual Hours: 15,200.

To obtain copies of the supporting statement and any related forms for the proposed paperwork collections referenced above, access CMS's Web Site address at http://cms.hhs.gov/regulations/pra/, or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be received by the designees referenced below by March 18, 2005: CMS, Office of Strategic Operations and Regulatory Affairs, Division of Regulations Development, Attention: Dawn Willinghan, CMS-10134 and CMS-10138, Room C5-14-03, 7500 Security Boulevard, Baltimore, Maryland 21244-1850; and, Office of Information and Regulatory Affairs, Office of Management and Budget, Room 10235, New Executive Office Building, Washington, DC 20503, Attn.: Christopher Martin, Desk Officer, Fax # 202-395-6974.

Dated: February 8, 2005.
John P. Burke, III,
CMS Paperwork Reduction Act Reports Clearance Officer, Office of Strategic Operations and Regulatory Affairs, Regulations Development Group.

[FR Doc. 05-3044 Filed 2-17-05; 8:45 am]

BILLING CODE 4320-03-P